DEPARTMENT OF THE INTERIOR

Fish and Wildlife Service

[FWS-HQ-ES-2018-0034; FXHC892009CBRS0-13X-FF09E15000]

John H. Chafee Coastal Barrier Resources System; Hurricane Sandy Remapping Project for Connecticut, Maryland, Massachusetts, New York, Rhode Island, and Virginia

AGENCY: Fish and Wildlife Service, Interior.

ACTION: Notice of availability; request for comments; notice of public meetings via webcast and teleconference.

SUMMARY: The Coastal Barrier Resources Reauthorization Act of 2006 requires the Secretary of the Interior to prepare digital versions of the John H. Chafee Coastal Barrier Resources System (CBRS) maps. We, the U.S. Fish and Wildlife Service, have prepared proposed digital boundaries for the second batch of CBRS units included in the Hurricane Sandy Remapping Project. This second batch of the project includes a total of 310 CBRS units (256 existing units and 54 proposed new units) located in Connecticut, Maryland, Massachusetts, New York (Long Island), Rhode Island, and Virginia. Though the Massachusetts units were included in the first batch of this project, a minor portion of Rhode Island Unit D01 in this second batch is located in Massachusetts. This notice announces the availability of the proposed boundaries for public review and comment, and also advises the public of upcoming public meetings that will be held via webcast and teleconference.

DATES:

Written comments: To ensure consideration, we must receive your written comments by April 17, 2019.

Public meetings: We will hold public meetings via webcast and teleconference on January 29, 2019, January 30, 2019, and January 31, 2019; see Virtual Public Meetings and Meeting Participation Information under SUPPLEMENTARY INFORMATION, below, for meeting dates, times, and registration information.

Pre-meeting registration: If you are planning to participate in one of the virtual public meetings (being offered via webcast and telephone only), we request that participants register by January 22, 2019 (see Meeting Participation Information under SUPPLEMENTARY INFORMATION, below).

ADDRESSES: You may submit written comments by one of the following methods:

• Electronically: Go to the Federale-Rulemaking Portal: http://www.regulations.gov. Search for FWS-HQ-ES-2018-0034, which is the docket number for this notice.

• By hard copy: Submit by U.S. mail or hand-delivery to: Public Comments Processing, Attn: Docket No. FWS-HQ-ES-2018-0034; Division of Policy, Performance, and Management Programs; U.S. Fish and Wildlife Service; 5275 Leesburg Pike, MS: BPHC; Falls Church, VA 22041-3808.

We request that you send comments by only one of the methods described above. We will post all information received on http://www.regulations.gov. If you provide personal identifying information in your comment, you may request at the top of your document that we withhold this information from public review. However, we cannot guarantee that we will be able to do so.

FOR FURTHER INFORMATION CONTACT: Katie Niemi, Coastal Barriers Coordinator, (703) 358-2071 (telephone); or CBRA@fws.gov (email).

SUPPLEMENTARY INFORMATION: The Coastal Barrier Resources Reauthorization Act of 2006 (section 4 of Public Law 109-226; CBRRA) requires the Secretary of the Interior (Secretary) to prepare digital versions of the John H. Chafee Coastal Barrier Resources System (CBRS) maps. We, the U.S. Fish and Wildlife Service (Service), have prepared proposed digital boundaries for the second batch of CBRS units included in the Hurricane Sandy Remapping Project. This second batch of the project includes a total of 310 CBRS units (256 existing units and 54 proposed new units) located in Connecticut, Maryland, Massachusetts, New York (Long Island), Rhode Island, and Virginia. This notice announces the availability of the proposed boundaries for public review and comment, and also advises the public of upcoming public meetings that will be held via webcast and teleconference.

Background and Methodology

Background information on the Coastal Barrier Resources Act (16 U.S.C. 3501 et seq.; CBRA) and the CBRS, as well as information on the Hurricane Sandy Remapping Project and the methodology used to produce the revised boundaries, can be found in a notice the Service published in the Federal Register on March 12, 2018 (83 FR 10739). The methodology information that is specific to the second batch of the project is described below.

Digital Conversion of the Existing Boundaries

The boundaries of the CBRS were originally hand-drawn on paper maps. The existing CBRS maps for Maryland, Virginia, and New York City underwent a digital conversion process between 2013 and 2015 (80 FR 25314; May 4, 2015). The digital conversion project replaced the underlying base maps with aerial imagery; updated the boundaries to a digital format to make them compatible with modern Geographic Information Systems (GIS); and incorporated modifications as necessary to account for natural changes, voluntary additions, and additions of excess Federal property.

The existing CBRS unit boundaries for Connecticut, Massachusetts, most of the Long Island portion of New York, and Rhode Island were digitally converted as part of this Hurricane Sandy Remapping Project in accordance with the digital conversion methodology described in a notice the Service published in the Federal Register on August 29, 2013 (78 FR 53467). The existing boundaries for these areas do not incorporate modifications to account for natural changes, voluntary additions, and additions of excess Federal property; such changes are instead reflected in the proposed boundaries.

Initial Stakeholder Outreach

The initial outreach that was conducted with certain landowners and/or managers of coastal barrier areas during the data mining and research phase of the project is described in a notice the Service published in the Federal Register on March 12, 2018 (83 FR 10739). The Service reached out to approximately 65 different stakeholders in Connecticut, Maryland, New York, Rhode Island, and Virginia, including, but not limited to, State natural resource management agencies, State parks and recreation agencies, private conservation organizations, and local governments. Some of these organizations, due to a variety of circumstances, were unable to provide input during the initial stakeholder outreach process. Additional outreach to these groups and a broader group of stakeholders is being conducted as part of the public review process; see the Request for Comments section, below, for more information.

Proposed Modifications to the CBRS

The Service has prepared draft revised boundaries that propose modifications to the CBRS in Connecticut, Maryland, Massachusetts, New York, Rhode Island, and Virginia. This second batch of the Hurricane Sandy Remapping Project includes a total of 310 CBRS units (256 existing units and 54 proposed new units), which are listed below in Appendix A. The breakdown of units by State is as follows: 32 existing units and 3 proposed new units in Connecticut, 49 existing units and 11 proposed new units in Maryland, 80 existing units and 22 proposed new units in New York, 31 existing units and 4 proposed new units in Rhode Island (including a minor portion of Unit D01 located in Massachusetts), and 64 existing units and 14 proposed new units in Virginia.

Nineteen of the 256 existing units have no proposed changes. Two of the existing 256 units are proposed for deletion from the CBRS, 15 of the existing units are proposed for reclassification from System Unit to Otherwise Protected Area (OPA) or vice-versa, and two of the existing units are transferred from one existing System Unit to another existing System Unit; in all of these cases, the current unit numbers are retired, resulting in 291 total proposed units.

Twenty-one of the 54 proposed new units are comprised partially, mostly, or entirely of areas that are currently contained within the CBRS, but are proposed for reclassification from System Unit to OPA or vice-versa. Thirty-three of the 54 proposed new units are comprised entirely of areas that are not currently contained within the CBRS.

If adopted by Congress, the proposed boundaries would remove 787 acres from the CBRS (600 acres of fastland and 187 acres of associated aquatic habitat) and add approximately 141,072 acres to the CBRS (5,057 acres of fastland and 136,015 acres of associated aquatic habitat). The proposed boundaries would remove 643 structures from the CBRS and add 96 structures to the CBRS. A summary of metrics associated with the proposed changes for each State is below. More detailed information regarding the specific proposed changes to each unit is available in a set of unit summaries. See the Availability of Proposed CBRS Boundaries and Related Information section, below, for information on where to access the unit summaries.

Connecticut

The Service has prepared comprehensively revised proposed boundaries for all of the 32 existing CBRS units in Connecticut. One existing unit in Connecticut has no proposed changes. Four of the existing 32 units are proposed for reclassification from System Unit to OPA or vice-versa, and, therefore, their current unit numbers are retired. Two of the existing 32 units in Connecticut are proposed for transfer from one existing System Unit to another existing System Unit (one of which is Rhode Island Unit D08; the Connecticut acreage is reported as part of Unit D08).

The Service identified three proposed new units in Connecticut. One of the three proposed new units in Connecticut is comprised partially of areas that are currently contained within the CBRS, but are proposed for reclassification from System Unit to OPA. Two of the three proposed new units in Connecticut are comprised entirely of areas that are not currently contained within the CBRS.

There are 29 total proposed units in Connecticut. The proposed boundaries for Connecticut would remove 32 acres from the CBRS (15 acres of fastland and 17 acres of associated aquatic habitat) and add approximately 4,477 acres to the CBRS (238 acres of fastland and 4,239 acres of associated aquatic habitat). The proposed boundaries would remove 51 structures from the CBRS and add approximately 8 structures to the CBRS.

Maryland

The Service has prepared comprehensively revised proposed boundaries for all of the 49 existing CBRS units in Maryland. Twelve existing units in Maryland have no proposed changes. One of the existing 49 units is proposed for deletion from the CBRS, and, therefore, its current unit number is retired. The Service identified 11 proposed new units in Maryland, which are all comprised entirely of areas that are not currently contained within the CBRS.

There are 59 total proposed units in Maryland. The proposed boundaries for Maryland would remove 124 acres from the CBRS (105 acres of fastland and 19 acres of associated aquatic habitat) and add 18,998 acres to the CBRS (429 acres of fastland and 18,569 acres of associated aquatic habitat). The proposed boundaries would remove 83 structures from the CBRS and add 7 structures to the CBRS.

Massachusetts

The Service prepared comprehensively revised proposed boundaries for all of the 86 existing CBRS units in Massachusetts as part of the first batch of this project described in a notice published in the Federal Register on March 12, 2018 (83 FR 10739). However, a minor portion of Rhode Island Unit D01 is located in Massachusetts. The acreage for this Massachusetts area (about 3 acres) is reported as part of Rhode Island Unit D01.

New York

The Service has prepared comprehensively revised proposed boundaries for all of the 80 existing CBRS units on Long Island in New York. The Great Lakes units in New York were not assessed as part of this review. One existing unit in New York has no proposed changes. Eight of the existing 80 units are proposed for reclassification from System Unit to OPA, and, therefore, their current unit numbers are retired.

The Service identified 22 proposed new units in New York. Fourteen of the 22 proposed new units in New York are comprised partially, mostly, or entirely of areas that are currently contained within the CBRS, but are proposed for reclassification from System Unit to OPA or vice-versa. Eight of the 22 proposed new units in New York are comprised entirely of areas that are not currently contained within the CBRS.

There are 94 total proposed units in New York. The proposed boundaries for New York would remove 328 acres from the CBRS (242 acres of fastland and 86 acres of associated aquatic habitat) and add 19,768 acres to the CBRS (2,581 acres of fastland and 17,187 acres of associated aquatic habitat). The proposed boundaries would remove 282 structures from the CBRS and add 30 structures to the CBRS.

Rhode Island

The Service has prepared comprehensively revised proposed boundaries for 31 of the 35 existing CBRS units in Rhode Island. The map for the remaining four Rhode Island units (Units RI-04P, RI-05P, RI-06, and RI-07) was comprehensively reviewed and revised by the Service and adopted by Congress in 2014 (Pub. L. 113-253). One existing unit in Rhode Island has no proposed changes. Three of the existing 31 units are proposed for reclassification from System Unit to OPA, and, therefore, their current unit numbers are retired.

The Service identified four proposed new units in Rhode Island. Three of the four proposed new units are comprised either mostly or entirely of areas that are currently contained within the CBRS, but are proposed for reclassification from System Unit to OPA. One of the four proposed new units is comprised entirely of areas that are not currently contained within the CBRS.

There are 32 total proposed units in Rhode Island. The proposed boundaries for Rhode Island would remove 102 acres from the CBRS (89 acres of fastland and 13 acres of associated aquatic habitat) and add 1,315 acres to the CBRS (376 acres of fastland and 939 acres of associated aquatic habitat). A small portion of this acreage falls within Connecticut and Massachusetts. The proposed boundaries would remove 147 structures from the CBRS and add 6 structures to the CBRS.

Virginia

The Service has prepared comprehensively revised proposed boundaries for all of the 64 existing CBRS units in Virginia. Four existing units in Virginia have no proposed changes. One of the existing 64 units is proposed for deletion from the CBRS, and, therefore, its current unit number is retired.

The Service identified 14 proposed new units in Virginia. Three of the 14 proposed new units in Virginia are comprised partially, mostly, or entirely of areas that are currently contained within the CBRS, but are proposed for reclassification from System Unit to OPA or vice-versa. Eleven of the 14 proposed new units in Virginia are comprised entirely of areas that are not currently contained within the CBRS.

There are 77 total proposed units in Virginia. The proposed boundaries for Virginia would remove 201 acres from the CBRS (149 acres of fastland and 52 acres of associated aquatic habitat) and add 96,514 acres to the CBRS (1,433 acres of fastland and 95,081 acres of associated aquatic habitat). The proposed boundaries would remove 80 structures from the CBRS and add 45 structures to the CBRS.

Proposed Additions to the CBRS

The draft revised boundaries for Connecticut, Maryland, Massachusetts, New York, Rhode Island, and Virginia would make additions to the CBRS, including the creation of 54 new units that are consistent with a directive in section 4 of Public Law 109-226 concerning recommendations for expansion of the CBRS. The proposed boundaries are based upon the best data available to the Service at the time the areas were reviewed. Our assessment indicated that any new areas proposed for addition to the CBRS were relatively undeveloped at the time the proposed boundaries were created.

16 U.S.C. 3503(g) requires that we consider the following criteria when assessing the development status of a potential addition to the CBRS: (1) Whether the density of development is less than one structure per 5 acres of land above mean high tide (which generally suggests eligibility for inclusion within the CBRS); and (2) whether there is existing infrastructure consisting of a road, with a reinforced road bed, to each lot or building site in the area; a wastewater disposal system sufficient to serve each lot or building site in the area; electric service for each lot or building site in the area; and a fresh water supply for each lot or building site in the area (which generally suggests ineligibility for inclusion within the CBRS).

If, upon review of the proposed boundaries, interested parties find that any areas proposed for addition to the CBRS are currently developed (according to the criteria codified in 16 U.S.C. 3503(g)), they may submit supporting documentation of such development to the Service during this public comment period. For any areas proposed for addition to the CBRS, we will consider the density of development and level of infrastructure on-the-ground as of the close of the comment period on the date listed in the DATES section, above.

Request for Comments

Section 4 of Public Law 109-226 requires the Secretary to provide an opportunity for the submission of public comments. We invite the public to review and comment on the proposed CBRS boundaries for the Connecticut, Maryland, New York, Rhode Island (including a minor portion of Unit D01 located in Massachusetts), and Virginia units listed in Appendix A. The Service is specifically notifying the following stakeholders concerning the availability of the proposed boundaries: The Chair and Ranking Member of the House of Representatives Committee on Natural Resources; the Chair and Ranking Member of the Senate Committee on Environment and Public Works; the members of the Senate and House of Representatives for the affected areas; the Governors of Connecticut, Maryland, Massachusetts, New York, Rhode Island, and Virginia; organizations that own land held for conservation and/or recreation within the existing and proposed units (where such ownership information and mailing addresses were publicly available); other appropriate Federal, State, and local officials; and appropriate nongovernmental organizations.

Interested parties may submit written comments and accompanying data as described in ADDRESSES, above. Comments regarding specific CBRS unit(s) should reference the appropriate unit number(s) and unit name(s) as listed in Appendix A. We must receive comments on or before the date listed above in DATES.

Following the close of the comment period, we will review all comments we receive on the proposed boundaries and make adjustments to the boundaries, as appropriate, based on information received through public comments, updated aerial imagery, CBRA criteria, and objective mapping protocols. We will then prepare final recommended boundaries to be submitted to Congress. The final recommended boundaries will become effective only if they are adopted by Congress through legislation.

Availability of Proposed CBRS Boundaries and Related Information

In the past, the Service has produced static PDFs of draft maps depicting proposed changes to the CBRS. However, in an effort to reduce costs, increase efficiency, and provide a more user-friendly interface for the public to view the proposed changes, the Service has created an online “CBRS Projects Mapper” to display the proposed CBRS boundaries in lieu of static PDFs of the draft maps. The online mapper creates greater transparency in the public review process, allowing users to zoom in further and obtain more detailed information about the type of change that is proposed for a specific area (e.g., additions, removals, and reclassifications).

The CBRS Projects Mapper and unit summaries (containing historical changes and proposed changes to the individual units) can be accessed from the Service's website at http://www.fws.gov/cbra. Public comments should be submitted at http://www.regulations.gov (see ADDRESSES, above). A shapefile of the proposed CBRS boundaries, which can be used with GIS software, is also available for download. The shapefile is best viewed using the base imagery to which the boundaries were drawn; the base imagery sources and dates are included in the metadata for the shapefile. The Service is not responsible for any misuse or misinterpretation of the shapefile.

Additionally, a stakeholder outreach toolkit (comprised of project fact sheets, flyers for the virtual public meetings, and other information about the project) will be made available to local officials upon request. Local officials may use this toolkit to increase awareness of the project and the virtual public meetings within the community. Local officials may contact the individual identified in FOR FURTHER INFORMATION CONTACT, above, for more information regarding the toolkit.

Interested parties who are unable to access the proposed boundaries or other information online may contact the individual identified in FOR FURTHER INFORMATION CONTACT, above, and reasonable accommodations will be made.

Virtual Public Meetings

We will hold the following public meetings via webcast and teleconference only. The purpose of the meetings is to give the public an overview of the Hurricane Sandy Remapping Project and to offer an opportunity for questions and answers regarding the proposed changes to the CBRS units listed in Appendix A.

Date | Time (Eastern time) | States
January 29, 2019 | 10 a.m.-12 p.m | Connecticut and Rhode Island.
January 30, 2019 | 10 a.m.-12 p.m | New York.
January 31, 2019 | 10 a.m.-12 p.m | Maryland and Virginia.

Meeting Participation Information

These webcast meetings are open to the public. To ensure that enough call-in lines are available, we request that participants register by emailing CBRA@fws.gov by 5 p.m. (Eastern time) on January 22, 2019. Registrants will be provided with instructions for participation via email. Participants requesting reasonable accommodations, such as interpretive services, should notify the person listed under FOR FURTHER INFORMATION CONTACT at least one week prior to the meeting.

Appendix A—Hurricane Sandy Remapping Project Units

Below are the affected units for each State, including unit number, unit name, county, and the status of the unit (i.e., existing unit, existing unit reclassified and unit number retired, existing unit transferred and unit number retired, and new unit).

State | County | Unit No. | Unit name | Unit status
Connecticut | New London | CT-00 | Barn Island | Existing Unit Transferred and Unit Number Retired.
Connecticut | New London | CT-01 | Mason Island | Existing Unit.
Connecticut | New London | CT-02 | Bluff Point | Existing Unit.
Connecticut | New London | CT-02P | Bluff Point | Existing Unit Reclassified and Unit Number Retired.
Connecticut | New London | CT-03 | Old Black Point | Existing Unit.
Connecticut | New London | CT-04 | Hatchett Point | Existing Unit.
Connecticut | New London | CT-05 | Little Pond | Existing Unit.
Connecticut | New London | CT-06 | Mile Creek | Existing Unit.
Connecticut | New London, Middlesex | CT-07 | Griswold Point | Existing Unit.
Connecticut | Middlesex | CT-08 | Cold Spring Brook | Existing Unit.
Connecticut | Middlesex | CT-09 | Harbor View | Existing Unit Transferred and Unit Number Retired.
Connecticut | New Haven | CT-10 | Toms Creek | Existing Unit.
Connecticut | New Haven | CT-11 | Seaview Beach | Existing Unit.
Connecticut | New Haven | CT-12 | Lindsey Cove | Existing Unit.
Connecticut | New Haven | CT-13 | Kelsey Island | Existing Unit.
Connecticut | New Haven | CT-14P | Nathan Hale Park | Existing Unit.
Connecticut | New Haven | CT-15P | Morse Park | Existing Unit.
Connecticut | Fairfield | CT-18P | Long Beach | Existing Unit.
Connecticut | New Haven | CT-19P | East River Marsh | New Unit.
Connecticut | Fairfield | CT-20P | Calf Islands | New Unit.
Connecticut | New London | E01 | Wilcox Beach | Existing Unit.
Connecticut | New London | E01A | Ram Island | Existing Unit.
Connecticut | New London | E02 | Goshen Cove | Existing Unit.
Connecticut | New London | E03 | Jordan Cove | Existing Unit.
Connecticut | New London | E03A | Niantic Bay | Existing Unit.
Connecticut | Middlesex | E03B | Lynde Point | Existing Unit.
Connecticut | Middlesex | E04 | Menunketesuck Island | Existing Unit.
Connecticut | Middlesex, New Haven | E05 | Hammonasset Point | Existing Unit.
Connecticut | Middlesex | E05P | Hammonasset Point | Existing Unit Reclassified and Unit Number Retired.
Connecticut | New Haven, Fairfield | E07 | Milford Point | Existing Unit.
Connecticut | New Haven | E07P | Milford Point | Existing Unit Reclassified and Unit Number Retired.
Connecticut | Fairfield | E08A | Fayerweather Island | Existing Unit Reclassified and Unit Number Retired.
Connecticut | Fairfield | E08AP | Fayerweather Island | New Unit—Partially Reclassified.
Connecticut | Fairfield | E09 | Norwalk Islands | Existing Unit.
Connecticut | Fairfield | E09P | Norwalk Islands | Existing Unit.
Maryland | Worcester | MD-01P | Assateague Island | Existing Unit.
Maryland | Somerset | MD-02 | Fair Island | Existing Unit.
Maryland | Somerset | MD-03 | Sound Shore | Existing Unit.
Maryland | Somerset | MD-03P | Sound Shore | New Unit.
Maryland | Somerset | MD-04P | Cedar/Janes Island | Existing Unit.
Maryland | Somerset | MD-06 | Joes Cove | Existing Unit.
Maryland | Somerset | MD-07P | Scott Point | Existing Unit.
Maryland | Somerset | MD-08P | Hazard Island | Existing Unit.
Maryland | Somerset | MD-09P | St. Pierre Point | Existing Unit.
Maryland | Somerset | MD-11 | Little Deal Island | Existing Unit.
Maryland | Somerset | MD-12 | Deal Island | Existing Unit.
Maryland | Somerset | MD-14 | Franks Island | Existing Unit.
Maryland | Somerset | MD-14P | Franks Island | Existing Unit.
Maryland | Somerset | MD-15 | Long Point | Existing Unit.
Maryland | Wicomico | MD-16 | Stump Point | Existing Unit.
Maryland | Somerset | MD-17P | Martin | Existing Unit.
Maryland | Somerset, Dorchester | MD-18P | Marsh Island | Existing Unit.
Maryland | Dorchester | MD-19 | Holland Island | Existing Unit.
Maryland | Dorchester | MD-20 | Jenny Island | Existing Unit.
Maryland | Dorchester | MD-21P | Barren Island | Existing Unit.
Maryland | Dorchester | MD-22 | Hooper Point | Existing Unit.
Maryland | Dorchester | MD-24 | Covey Creek | Existing Unit.
Maryland | Dorchester | MD-25 | Castle Haven Point | Existing Unit Deleted and Unit Number Retired.
Maryland | Talbot | MD-26 | Boone Creek | Existing Unit.
Maryland | Talbot | MD-27 | Benoni Point | Existing Unit.
Maryland | Talbot | MD-28 | Lowes Point | Existing Unit.
Maryland | Talbot | MD-29 | Rich Neck | Existing Unit.
Maryland | Queen Anne's | MD-30 | Kent Point | Existing Unit.
Maryland | Queen Anne's | MD-32 | Stevensville | Existing Unit.
Maryland | Queen Anne's | MD-33 | Wesley Church | Existing Unit.
Maryland | Kent | MD-34P | Eastern Neck Island | Existing Unit.
Maryland | Kent | MD-35 | Wilson Pond | Existing Unit.
Maryland | Calvert | MD-37P | Flag Ponds | Existing Unit.
Maryland | Calvert | MD-38 | Cove Point Marsh | Existing Unit.
Maryland | Calvert | MD-38P | Cove Point Marsh | New Unit.
Maryland | Calvert | MD-39 | Drum Point | Existing Unit.
Maryland | St. Mary's | MD-40 | Lewis Creek | Existing Unit.
Maryland | St. Mary's | MD-41 | Green Holly Pond | Existing Unit.
Maryland | St. Mary's | MD-44 | St. Clarence Creek | Existing Unit.
Maryland | St. Mary's | MD-45 | Deep Point | Existing Unit.
Maryland | St. Mary's | MD-46 | Point Look-In | Existing Unit.
Maryland | St. Mary's | MD-47 | Tanner Creek | Existing Unit.
Maryland | St. Mary's | MD-48P | Point Lookout | Existing Unit.
Maryland | St. Mary's | MD-49 | Bisco Creek | Existing Unit.
Maryland | St. Mary's | MD-50 | Chicken Cock Creek | Existing Unit.
Maryland | St. Mary's | MD-51 | Piney Point Creek | Existing Unit.
Maryland | St. Mary's | MD-52 | McKay Cove | Existing Unit.
Maryland | St. Mary's | MD-53 | Blake Creek | Existing Unit.
Maryland | St. Mary's | MD-54 | Belvedere Creek | Existing Unit.
Maryland | St. Mary's | MD-55P | St. Clements Island | Existing Unit.
Maryland | St. Mary's | MD-56 | St. Catherine Island | Existing Unit.
Maryland | Dorchester | MD-58 | Lower Hooper Island | New Unit.
Maryland | Dorchester | MD-59 | Meekins Neck | New Unit.
Maryland | Talbot | MD-60 | Chlora Point | New Unit.
Maryland | St. Mary's | MD-61P | Biscoe Pond | New Unit.
Maryland | St. Mary's | MD-62 | Carroll Pond | New Unit.
Maryland | St. Mary's | MD-63 | Potter Creek | New Unit.
Maryland | St. Mary's | MD-64 | Cherryfield | New Unit.
Maryland | Charles | MD-65 | Swan Point | New Unit.
Maryland | Charles | MD-66 | Lower Cedar Point | New Unit.
New York | Suffolk | F01 | Fisher Island Barriers | Existing Unit.
New York | Suffolk | F02 | Eatons Neck | Existing Unit.
New York | Suffolk | F04 | Crane Neck | Existing Unit Reclassified and Unit Number Retired.
New York | Suffolk | F04P | Crane Neck | New Unit—Mostly Reclassified.
New York | Suffolk | F05 | Old Field Beach | Existing Unit.
New York | Suffolk | F05P | Old Field Beach | New Unit—Mostly Reclassified.
New York | Suffolk | F06 | Shelter Island Barriers | Existing Unit.
New York | Suffolk | F08A | Sammys Beach | Existing Unit.
New York | Suffolk | F08B | Accabonac Harbor | Existing Unit.
New York | Suffolk | F09 | Gardiners Island Barriers | Existing Unit.
New York | Suffolk | F10 | Napeague | Existing Unit.
New York | Suffolk | F10P | Napeague | New Unit—Mostly Reclassified.
New York | Suffolk | F11 | Mecox | Existing Unit.
New York | Suffolk | F12 | Southampton Beach | Existing Unit.
New York | Suffolk | F13 | Tiana Beach | Existing Unit.
New York | Suffolk | F13P | Tiana Beach | Existing Unit.
New York | Nassau | NY-03 | Sands Point | Existing Unit.
New York | Nassau | NY-04P | Prospect Point | Existing Unit.
New York | Nassau | NY-05P | Dosoris Pond | Existing Unit.
New York | Nassau | NY-06 | The Creek Beach | Existing Unit.
New York | Nassau | NY-06P | The Creek Beach | Existing Unit.
New York | Nassau | NY-07P | Centre Island Beach | Existing Unit.
New York | Suffolk | NY-09P | Lloyd Beach | Existing Unit.
New York | Suffolk | NY-10 | Lloyd Point | Existing Unit.
New York | Suffolk | NY-10P | Lloyd Point | New Unit—Mostly Reclassified.
New York | Suffolk | NY-11 | Lloyd Harbor | Existing Unit.
New York | Suffolk | NY-11P | Lloyd Harbor | Existing Unit.
New York | Suffolk | NY-12 | Centerpoint Harbor | Existing Unit.
New York | Suffolk | NY-13 | Hobart Beach | Existing Unit.
New York | Suffolk | NY-14 | Crab Meadow | Existing Unit.
New York | Suffolk | NY-15 | Sunken Meadow | Existing Unit.
New York | Suffolk | NY-15P | Sunken Meadow | New Unit—Mostly Reclassified.
New York | Suffolk | NY-16 | Stony Brook Harbor | Existing Unit.
New York | Suffolk | NY-16P | Stony Brook Harbor | New Unit—Partially Reclassified.
New York | Suffolk | NY-17 | Cedar Beach | Existing Unit.
New York | Suffolk | NY-17P | Cedar Beach | Existing Unit.
New York | Suffolk | NY-18 | Wading River | Existing Unit.
New York | Suffolk | NY-19 | Baiting Hollow | Existing Unit Reclassified and Unit Number Retired.
New York | Suffolk | NY-19P | Baiting Hollow | New Unit—Mostly Reclassified.
New York | Suffolk | NY-20P | Luce Landing | Existing Unit.
New York | Suffolk | NY-21P | Mattituck Inlet | Existing Unit.
New York | Suffolk | NY-22P | Goldsmith Inlet | Existing Unit.
New York | Suffolk | NY-23 | Truman Beach | New Unit—Mostly Reclassified.
New York | Suffolk | NY-23P | Truman Beach | Existing Unit.
New York | Suffolk | NY-24 | Plum Island | Existing Unit.
New York | Suffolk | NY-25 | Orient Beach | Existing Unit Reclassified and Unit Number Retired.
New York | Suffolk | NY-25P | Orient Beach | New Unit—Mostly Reclassified.
New York | Suffolk | NY-26 | Pipes Cove | Existing Unit.
New York | Suffolk | NY-27 | Conkling Point | Existing Unit.
New York | Suffolk | NY-28 | Southhold Bay | Existing Unit.
New York | Suffolk | NY-29P | Cedar Beach Point | Existing Unit.
New York | Suffolk | NY-30 | Hog Neck Bay | Existing Unit.
New York | Suffolk | NY-31 | Little Creek | Existing Unit.
New York | Suffolk | NY-31A | Cutchogue Harbor | New Unit—Partially Reclassified.
New York | Suffolk | NY-31P | Little Creek | Existing Unit.
New York | Suffolk | NY-32 | Downs Creek | Existing Unit.
New York | Suffolk | NY-33 | Robins Island | Existing Unit.
New York | Suffolk | NY-34 | East Creek | Existing Unit.
New York | Suffolk | NY-35 | Indian Island | Existing Unit Reclassified and Unit Number Retired.
New York | Suffolk | NY-35P | Indian Island | New Unit—Partially Reclassified.
New York | Suffolk | NY-36 | Flanders Bay | Existing Unit.
New York | Suffolk | NY-36P | Flanders Bay | New Unit—Mostly Reclassified.
New York | Suffolk | NY-37 | Red Creek Pond | Existing Unit.
New York | Suffolk | NY-38 | Squire Pond | Existing Unit.
New York | Suffolk | NY-39 | Cow Neck | Existing Unit.
New York | Suffolk | NY-40 | North Sea Harbor | Existing Unit.
New York | Suffolk | NY-40P | North Sea Harbor | Existing Unit.
New York | Suffolk | NY-41 | Clam Island | Existing Unit Reclassified and Unit Number Retired.
New York | Suffolk | NY-41P | Clam Island | Existing Unit.
New York | Suffolk | NY-42 | Mill Creek | Existing Unit.
New York | Suffolk | NY-43 | Short Beach | Existing Unit.
New York | Suffolk | NY-43P | Short Beach | Existing Unit.
New York | Suffolk | NY-44 | Gleason Point | Existing Unit.
New York | Suffolk | NY-45 | Shell Beach | Existing Unit.
New York | Suffolk | NY-46 | Crab Creek | Existing Unit.
New York | Suffolk | NY-47 | Hay Beach Point | Existing Unit.
New York | Suffolk | NY-48 | Mashomack Point | Existing Unit.
New York | Suffolk | NY-49 | Smith Cove | Existing Unit.
New York | Suffolk | NY-50 | Fresh Pond | Existing Unit.
New York | Suffolk | NY-51 | Northwest Harbor | Existing Unit Reclassified and Unit Number Retired.
New York | Suffolk | NY-51P | Northwest Harbor | Existing Unit.
New York | Suffolk | NY-52 | Hog Creek | Existing Unit.
New York | Suffolk | NY-53 | Big Reed Pond | Existing Unit.
New York | Suffolk | NY-54 | Oyster Pond | Existing Unit Reclassified and Unit Number Retired.
New York | Suffolk | NY-54P | Oyster Pond | New Unit—Entirely Reclassified.
New York | Suffolk | NY-55 | Montauk Point | Existing Unit Reclassified and Unit Number Retired.
New York | Suffolk | NY-55P | Montauk Point | New Unit—Mostly Reclassified.
New York | Suffolk | NY-56 | Amagansett | Existing Unit.
New York | Suffolk | NY-56P | Amagansett | Existing Unit.
New York | Suffolk | NY-57 | Georgica/Wainscott Ponds | Existing Unit.
New York | Suffolk | NY-58 | Sagaponack Pond | Existing Unit.
New York | Suffolk, Nassau | NY-59 | Fire Island | Existing Unit.
New York | Suffolk, Nassau | NY-59P | Fire Island | Existing Unit
New York | Queens, Kings, Nassau | NY-60P | Jamaica Bay | Existing Unit.
New York | Nassau | NY-88 | Centre Island | New Unit.
New York | Suffolk | NY-89 | Duck Island Harbor | New Unit.
New York | Suffolk | NY-90P | Peconic Dunes | New Unit
New York | Suffolk | NY-92 | Cold Spring Pond | New Unit.
New York | Suffolk | NY-93 | South Ferry | New Unit.
New York | Suffolk | NY-94 | Log Cabin Creek | New Unit.
New York | Suffolk | NY-95P | Little Northwest Creek | New Unit.
New York | Suffolk | NY-96P | Dennistown Bell Park | New Unit.
Rhode Island, Massachusetts | Newport, Bristol | D01 | Little Compton Ponds | Existing Unit.
Rhode Island | Newport | D01P | Tunipus Pond | Existing Unit.
Rhode Island | Newport | D02 | Fogland Marsh | Existing Unit.
Rhode Island | Washington, Kent, Newport, Bristol | D02B | Prudence Island | Existing Unit.
Rhode Island | Kent, Newport, Bristol | D02BP | Prudence Island | Existing Unit.
Rhode Island | Washington | D02C | West Narragansett Bay | Existing Unit.
Rhode Island | Newport | D02P | Fogland Marsh | New Unit—Entirely Reclassified.
Rhode Island | Washington | D03 | Card Ponds | Existing Unit.
Rhode Island | Washington | D03P | Card Ponds | Existing Unit.
Rhode Island | Washington | D04 | Green Hill Beach | Existing Unit.
Rhode Island | Washington | D05 | East Beach | Existing Unit Reclassified and Unit Number Retired.
Rhode Island | Washington | D05P | East Beach | Existing Unit.
Rhode Island | Washington | D06 | Quonochontaug Beach | Existing Unit.
Rhode Island | Washington | D06P | Quonochontaug Beach | New Unit—Mostly Reclassified.
Rhode Island | Washington | D07 | Maschaug Ponds | Existing Unit.
Rhode Island, Connecticut | Washington, New London | D08 | Napatree | Existing Unit.
Rhode Island | Washington | D08P | Napatree | Existing Unit.
Rhode Island | Washington | D09 | Block Island | Existing Unit.
Rhode Island | Washington | D09P | Block Island | Existing Unit.
Rhode Island | Newport | RI-01 | Brown Point | Existing Unit.
Rhode Island | Newport | RI-02 | Sapowet Point | Existing Unit.
Rhode Island | Newport | RI-02A | McCorrie Point | Existing Unit.
Rhode Island | Newport | RI-02P | Sapowet Point | New Unit—Mostly Reclassified.
Rhode Island | Newport | RI-03P | Sandy Point | Existing Unit.
Rhode Island | Newport | RI-08 | Fox Hill Marsh | Existing Unit.
Rhode Island | Newport | RI-08P | Fox Hill Marsh | Existing Unit.
Rhode Island | Washington | RI-09 | Bonnet Shores Beach | Existing Unit.
Rhode Island | Washington | RI-10 | Narragansett Beach | Existing Unit.
Rhode Island | Washington | RI-10P | Narragansett Beach | Existing Unit.
Rhode Island | Washington | RI-11 | Seaweed Beach | Existing Unit Reclassified and Unit Number Retired.
Rhode Island | Washington | RI-11P | Seaweed Beach | Existing Unit.
Rhode Island | Washington | RI-12 | East Matunuck Beach | Existing Unit Reclassified and Unit Number Retired.
Rhode Island | Washington | RI-12P | East Matunuck Beach | Existing Unit.
Rhode Island | Washington | RI-13P | Misquamicut Beach | Existing Unit.
Rhode Island | Washington | RI-14P | Point Judith | New Unit.
Virginia | Accomack | K03 | Cedar Island | Existing Unit.
Virginia | Northampton | K04 | Little Cobb Island | Existing Unit.
Virginia | Northampton | K05 | Fishermans Island | Existing Unit.
Virginia | Northampton | K05P | Fishermans Island | Existing Unit.
Virginia | Accomack | VA-01P | Assateague Island | Existing Unit.
Virginia | Accomack | VA-02P | Assawoman Island | Existing Unit.
Virginia | Accomack | VA-03P | Metompkin Island | Existing Unit.
Virginia | Accomack, Northampton | VA-04P | Parramore/Hog/Cobb Islands | Existing Unit.
Virginia | Northampton | VA-05P | Wreck Island | Existing Unit.
Virginia | Northampton | VA-06P | Smith Island | Existing Unit.
Virginia | Northampton | VA-09 | Elliotts Creek | Existing Unit.
Virginia | Northampton | VA-10 | Old Plantation Creek | Existing Unit.
Virginia | Northampton | VA-11 | Wescoat Point | Existing Unit.
Virginia | Northampton | VA-12 | Great Neck | Existing Unit.
Virginia | Northampton | VA-13 | Westerhouse Creek | Existing Unit.
Virginia | Northampton | VA-14 | Shooting Point | Existing Unit.
Virginia | Accomack, Northampton | VA-16 | Scarborough Neck | Existing Unit.
Virginia | Accomack | VA-16P | Scarborough Neck | New Unit—Mostly Reclassified.
Virginia | Accomack | VA-17 | Craddock Neck | Existing Unit.
Virginia | Accomack | VA-17P | Craddock Neck | New Unit.
Virginia | Accomack | VA-18 | Hacks Neck | Existing Unit.
Virginia | Accomack | VA-19 | Parkers/Finneys Islands | Existing Unit.
Virginia | Accomack | VA-20 | Parkers Marsh | New Unit—Partially Reclassified.
Virginia | Accomack | VA-20P | Parkers Marsh | Existing Unit.
Virginia | Accomack | VA-21 | Beach Island | Existing Unit.
Virginia | Accomack | VA-22 | Russell Island | Existing Unit.
Virginia | Accomack | VA-22P | Russell Island | New Unit.
Virginia | Accomack | VA-23 | Simpson Bend | Existing Unit.
Virginia | Accomack | VA-24 | Drum Bay | Existing Unit.
Virginia | Accomack | VA-25 | Fox Islands | Existing Unit.
Virginia | Accomack | VA-26 | Cheeseman Island | Existing Unit.
Virginia | Accomack | VA-27 | Watts Island | Existing Unit.
Virginia | Accomack | VA-28 | Tangier Island | Existing Unit.
Virginia | Accomack | VA-28P | Tangier Island | New Unit—Entirely Reclassified.
Virginia | Westmoreland | VA-29 | Elbow Point | Existing Unit.
Virginia | Westmoreland | VA-30 | White Point | Existing Unit.
Virginia | Westmoreland | VA-31 | Cabin Point | Existing Unit.
Virginia | Westmoreland | VA-32 | Glebe Point | Existing Unit.
Virginia | Westmoreland | VA-33 | Sandy Point | Existing Unit.
Virginia | Northumberland | VA-34 | Judith Sound | Existing Unit.
Virginia | Northumberland | VA-35 | Cod Creek | Existing Unit.
Virginia | Northumberland | VA-36 | Presley Creek | Existing Unit.
Virginia | Northumberland | VA-37 | Cordreys Beach | Existing Unit.
Virginia | Northumberland | VA-38 | Marshalls Beach | Existing Unit.
Virginia | Northumberland | VA-39P | Ginny Beach | Existing Unit.
Virginia | Northumberland | VA-40 | Gaskin Pond | Existing Unit.
Virginia | Northumberland | VA-41 | Owens Pond | Existing Unit.
Virginia | Northumberland | VA-42 | Chesapeake Beach | Existing Unit.
Virginia | Northumberland | VA-43 | Fleet Point | Existing Unit.
Virginia | Northumberland | VA-44 | Bussel Point | Existing Unit.
Virginia | Northumberland | VA-45 | Harveys Creek | Existing Unit.
Virginia | Northumberland | VA-46 | Ingram Cove | Existing Unit.
Virginia | Northumberland | VA-47 | Bluff Point Neck | Existing Unit.
Virginia | Northumberland | VA-47P | Bluff Point Neck | New Unit.
Virginia | Northumberland | VA-48 | Barnes Creek | Existing Unit.
Virginia | Lancaster | VA-49 | North Point | Existing Unit.
Virginia | Lancaster | VA-50 | Windmill Point | Existing Unit.
Virginia | Lancaster | VA-51 | Deep Hole Point | Existing Unit.
Virginia | Middlesex | VA-52 | Sturgeon Creek | Existing Unit.
Virginia | Middlesex | VA-53 | Jackson Creek | Existing Unit.
Virginia | Middlesex | VA-54 | Stove Point | Existing Unit Deleted and Unit Number Retired.
Virginia | Mathews | VA-55 | Rigby Island/Bethel Beach | Existing Unit.
Virginia | Mathews | VA-55P | Rigby Island/Bethel Beach | New Unit.
Virginia | Mathews | VA-56 | New Point Comfort | Existing Unit.
Virginia | Gloucester | VA-57 | Ware Neck | Existing Unit.
Virginia | Gloucester | VA-58 | Severn River | Existing Unit.
Virginia | City of Poquoson (Independent City) | VA-59P | Plum Tree Island | Existing Unit.
Virginia | City of Hampton (Independent City) | VA-60 | Long Creek | Existing Unit.
Virginia | City of Hampton (Independent City) | VA-60P | Long Creek | Existing Unit.
Virginia | City of Virginia Beach (Independent City) | VA-61P | Cape Henry | Existing Unit.
Virginia | City of Virginia Beach (Independent City) | VA-62P | Back Bay | Existing Unit.
Virginia | Northumberland | VA-63P | Dameron Marsh | New Unit.
Virginia | Lancaster | VA-64 | Little Bay | New Unit.
Virginia | Lancaster | VA-65P | White Marsh | New Unit.
Virginia | Gloucester | VA-66 | Lone Point | New Unit.
Virginia | Gloucester | VA-67 | Oldhouse Creek | New Unit.
Virginia | York | VA-68 | Bay Tree Beach | New Unit.
Virginia | York | VA-68P | Bay Tree Beach | New Unit.

Gary Frazer,
Assistant Director for Ecological Services.

[FR Doc. 2018-27322 Filed 12-17-18; 8:45 am]

BILLING CODE 4333-15-P